DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Office of Federal Contract Compliance Programs Complaint Form (CC-4). A copy of the proposed information collection request can be obtained by contacting the office listed below in the addresses section of this Notice.

DATES: Written comments must be submitted to the office listed in the addresses section below on or before September 13, 2004.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax, or E-mail).

SUPPLEMENTARY INFORMATION:

I. Background

The Office of Federal Contract Compliance Programs (OFCCP) is responsible for the administration of three equal opportunity programs: Executive Order 11246, as amended; Section 503 of the Rehabilitation Act of 1973, as amended and 38 U.S.C. 4212, the Vietnam Era Veteran's Readjustment Assistance Act of 1974, as amended (VEVRAA). These programs require affirmative action by Federal contractors and subcontractors and prohibit discrimination on the basis of race, color, sex, religion, national origin, status as a qualified individual with disabilities or protected veteran. No private right of action exists under the three programs that are enforced by the U.S. Department of Labor (DOL), i.e. a private individual may not bring a lawsuit against an employer (or prospective employer) for noncompliance with its contractual obligations under the laws enforced by OFCCP. However, any employee or applicant for employment with a Government contractor may file a complaint with the Department of Labor alleging discrimination by completing Complaint Form CC-4, Complaint of Discrimination in Employment under Federal Government Contracts. DOL investigates the complaint but retains the discretion whether to pursue prosecution. If a complaint filed under Executive Order 11246, as amended, involves discrimination against only one person, the OFCCP will normally refer it to the U.S. Equal Employment Opportunity Commission (EEOC). Such referrals are made under a Memorandum of Understanding between the two Federal agencies. Complaints that involve groups of people or indicate patterns of discrimination are generally investigated by the OFCCP. The program also investigates individual or group complaints filed under the disability and veterans laws. Under Executive Order 11246, as amended, the authority for collection of complaint information is Section 206(b). The implementing regulations which specify the content of this information collection are found at 41 CFR 60-1.23(a). Under the Vietnam Era Veterans' Readjustment Assistance Act of 1974, as amended, the authority for collecting complaints information is at 38 U.S.C. 4212(d). The implementing regulations which specify the content of this information collection are found at 41 CFR 60-250.61(b). Section 503 of the Rehabilitation Act of 1973, as amended, is the authority for collecting complaint information under the statute. The implementing regulations which specify the content of this information collection are found at 41 CFR 60-741.61(c). For purposes of this clearance request, the programs have been divided functionally into two categories, construction and supply service. This information collection request covers the recordkeeping and reporting requirements for the complaint form CC-4. A separate information collection request covers the recordkeeping and reporting requirements for supply and service industries, and is approved under OMB 1215-0072. This information collection is currently approved for use through November 30, 2004.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval of the extension of this information in order to carry out its responsibility to enforce the affirmative action and anti-discrimination provisions of the three Acts, which it administers.

Type of Review: Extension.

Agency: Employment Standards Administration.

Title: Office of Federal Contract Compliance Programs Complaint Form.

OMB Number: 1215-0131.

Agency Number: CC-4.

Affected Public: Individuals or households.

Total Respondents: 848.

Total Annual Responses: 848.

Average Time per Response: 1.28 hours.

Estimated Total Burden Hours: 1,085

Frequency: On occasion.

Total Burden Cost (capital/startup): $0.

Total Burden Cost (operating/maintenance): $339.20.

Comments submitted in response to this notice will be summarized and/or included in the request for Office of Management and Budget approval of the information collection request; they will also become a matter of public record.

Dated: July 8, 2004.
Bruce Bohanon,
Chief, Branch of Management Review and Internal Control, Division of Financial Management, Office of Management, Administration and Planning, Employment Standards Administration.

[FR Doc. 04-15962 Filed 7-13-04; 8:45 am]

BILLING CODE 4510-30-P